DEPARTMENT OF AGRICULTURE

Forest Service

Notice of new fee site; Federal Lands Recreation Enhancement Act, (Title VIII, Pub. L. 108-447)

AGENCY: Fishlake National Forest, USDA Forest Service.

ACTION: Notice of New Fee Site.

SUMMARY: The Fremont River Ranger District of the Fishlake National Forest will begin charging a $10 fee for single family overnight camping and a $25 fee for group family overnight camping at the Tasha Equestrian Campground. There will also be a $5 fee for an extra vehicle. Overnight camping at other campgrounds on the Fishlake National Forest have shown that publics appreciate and enjoy the availability of developed recreation facilities. Funds from the fee charges will be used for the continued operation and maintenance of the Tasha Equestrian Campground.

DATES: Tasha Equestrian Campground will become available for overnight camping on May 25, 2008 (weather permitting).

ADDRESSES: Forest Supervisor, Fishlake National Forest, 115 East, 900 North, Richfield, Utah 84701.

FOR FURTHER INFORMATION CONTACT: David C. Bell, Forester, 435-836-2811.

SUPPLEMENTARY INFORMATION: The Federal Recreation Lands Enhancement Act (Title VII, Pub. L. 108-447) directed the Secretary of Agriculture to publish a six month advance notice in the Federal Register whenever new recreation fee areas are established.

The Fremont River Ranger District of the Fishlake National Forest currently has several other fee campgrounds. These facilities are within the Fish Lake Basin Recreation Area in close proximity to Fish Lake, the largest natural mountain lake in the state. It is the only equestrian campground in the area. This area offers significant recreational opportunities such as camping, boating, fishing, hiking, horseback riding, and wildlife viewing. A market analysis indicates that the $10/per night single family camping fee and $25/per night group family camping fee is both reasonable and acceptable for this sort of unique recreation experience.

Dated: June 6, 2007.
Mary C. Erickson,
Fishlake National Forest Supervisor.

[FR Doc. E7-11802 Filed 6-18-07; 8:45 am]

BILLING CODE 3410-11-P